FEDERAL COMMUNICATIONS COMMISSION

Notice of Public Information Collection(s) Being Reviewed by the Federal Communications Commission, Comments Requested

November 17, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 26, 2001. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0364.

Title: Section 80.409(d) and (e) Ship radiotelegraph logs, Ship radiotelephone logs.

Form No.: N/A.

Type of Review: Revision of currently approved collection.

Respondents: Businesses or other for-profit, state, local or tribal government, not-for-profit institutions.

Number of Respondents: 10,950.

Estimated Time Per Response: 30 hours per response.

Frequency of Response: N/A.

Total Annual Burden: 328,500 hours.

Total Annual Cost: $0.

Needs and Uses: The Notice of Proposed Rule Making in WT 00-48, FCC 00-105 proposes to change these recordkeeping requirements. These changes incorporate the new GMDSS radio equipment and will reduce the estimated time per response. The recordkeeping requirement contained in these rule sections is necessary to document that compulsory radio equipped vessels and high seas vessels maintain listening watches and logs as required by statutes and treaties (including treaty requirements contained in appendix 11 of the International Radio Regulations, chapter IV, Regulation 19 of the International Convention for the Safety of Life at Sea, the Bridge-to-Bridge Radio Telephone Act, the Great Lakes Agreement, and the Communications Act of 1934, as amended.) A retention period of more than one year is required where a log involves communications relating to a disaster, an investigation, or any claim or complaint. If the information were not collected, documentation concerning station operations would not be available and treaty requirements would not be complied with.

Federal Communications Commission.
Magalie Roman Salas,
Secretary.

[FR Doc. 00-30060 Filed 11-24-00; 8:45 am]

BILLING CODE 6712-01-U